DEPARTMENT OF THE INTERIOR

Minerals Management Service

2002 Industry Awards Program and Luncheon

AGENCY: Minerals Management Service (MMS), Interior.

ACTION: Notice of 2002 Industry Awards Program and Luncheon.

SUMMARY: This notice announces the 2002 Industry Awards Program and Luncheon. This is the 20th year that MMS will honor outstanding companies for their exemplary safety and pollution prevention records, and is the fourth year for our MMS-wide industry awards program.

DATES: The awards program and luncheon will be held on Thursday, April 11, 2002.

ADDRESSES: The program and luncheon will be held at the Hotel Inter-Continental Houston, 2222 West Loop South, Houston, Texas 77027. The hotel's phone number is (713) 961-7272. To obtain registration information, please log onto the MMS temporary Web site at: http://www.temporarygomr.com/hq/industry_awards.html

FOR FURTHER INFORMATION CONTACT: Offshore Minerals Management, Debbie O'Brien at 703-787-1579; Marcia Oliver at (703) 787-1043; Minerals Revenue Management, David Izon at 202-208-3731; Jan Therkildsen at (303) 231-3604; or Mary Louise Miller at (303) 231-3386.

SUPPLEMENTARY INFORMATION: This is the 20th year that MMS will honor outstanding companies for their exemplary safety and pollution prevention records, and is the fourth year for our MMS-wide industry awards program.

The following awards will be presented:

• Corporate Leadership Award (CORLA) recognizing Corporation employees for performing an act or service that enhances MMS's ability to meet Offshore or Minerals Revenue Management mission objectives.

• Corporate Citizen Award (CORCIT) recognizing lessees that have provided the most outstanding performance across MMS—in both offshore operational safety and mineral revenues financial compliance.

• Secretary of the Interior's Mineral Revenues Stewardship Award recognizing exceptional performance by companies that report production and pay royalties for Federal and Indian minerals leases. A company's outstanding performance is reflected by low error rates, timely payment, and responsiveness to compliance and enforcement requests and orders.

• Safety Award for Excellence (SAFE) recognizing OCS oil and gas facility operators and contractors for outstanding safety and pollution prevention performance. It also highlights companies that conduct offshore oil and gas activities safely and in a pollution-free manner, although such activities are complex and carry a significant element of risk. The SAFE Award Categories are as follows:

• High Activity

• Moderate Activity

• Contractor—Drilling

• Contractor—Production

Dated: February 15, 2002.
Lucy Querques Denett,
Acting Director, Minerals Management Service.

[FR Doc. 02-5139 Filed 3-4-02; 8:45 am]

BILLING CODE 4310-MR-P